DEPARTMENT OF LABOR

Employment and Training Administration

Solicitation for Grant Applications; National Farm Worker Jobs Program; Housing Assistance for Migrants and Seasonal Farmworkers

AGENCY: Employment and Training Administration, Labor.

ACTION: Notice of availability of funds and Solicitation for Grant Applications (SGA) for the National Farm Worker Jobs Program and for Housing Assistance to Migrant and Seasonal Farmworkers.

SUMMARY: The U.S. Department of Labor (the Department or DOL), Employment and Training Administration (ETA), Office of National Programs (ONP), Division of Seasonal Farm Worker Programs (DSFP), announces a grant competition for operating the National Farm Worker Jobs Program (NFJP), AND for housing assistance for migrants and seasonal farmworkers (MSFWs), under Section 167 of the Workforce Investment Act of 1998 (WIA), 29 U.S.C. 9201. All applicants for grant funds should read this notice in its entirety.

Section 167, paragraph (a) of WIA requires that the Secretary award grants or contracts on a competitive basis to eligible entities for the purposes of carrying out the activities authorized under Section 167. Under this solicitation, DSFP anticipates that approximately $72,213,541 will be available for grant awards for the NFJP, and approximately $4,609,840 will be available for grant awards to provide housing assistance to migrants and seasonal farmworkers.

DATES: Applications, including those hand-delivered, must be received at the address below no later than 4:45 p.m., Eastern Time, on May 16, 2003.

Notice: All applicants are advised that U.S. mail delivery in the Washington, DC area has been erratic due to mail screening to detect anthrax contamination. All applicants should take this into consideration when preparing to meet the application deadline. Each applicant assumes the risk for ensuring a timely submission of an application. If, because of mail screening delays, the Department does not receive an application or receives it too late to give it proper consideration, even if the application was timely mailed, it will not be considered.

Note: Except as specifically provided, DOL/ETA acceptance of a proposal and an award of federal funds to sponsor any program(s) does not provide a waiver of any grant requirement and/or procedures. For example, the OMB circulars require that an entity's procurement procedures must require that all procurement transactions must be conducted, as practical, to provide open and free competition. If a proposal identifies a specific entity to provide the services, the DOL/ETA's award does not provide the justification or basis to sole-source the procurement; i.e., avoid competition.

ADDRESS: Applications must be directed to the U.S. Department of Labor, Employment and Training Administration, Division of Federal Assistance, Attention: Serena Boyd, Room S-4203, 200 Constitution Avenue, NW., Washington, DC 20210.

FOR FURTHER INFORMATION CONTACT: Questions should be addressed to Serena Boyd, Division of Federal Assistance, phone (202) 693-3301 or fax (202) 693-2879. (These are not toll-free numbers). All inquiries should reference SGA/DFA-03-108 and include a contact name, fax and phone numbers. This announcement will be posted on the Internet on ETA's homepage at http://wdsc.doleta.gov. Award notifications will also be published on this homepage.

SUPPLEMENTARY INFORMATION: The Department of Labor (DOL) FY 2003 Appropriations Act provided funding for PY 2003 (July 1, 2003 through June 30, 2004 only). No additional funds are being requested for PY 2004. Applicants should therefore note that awards made through this SGA process are for only one year. An applicant's description of the services to be provided should be limited to those service strategies that can be provided within the Program Year (PY) specified above.

Please note that two separate grants applications are being sought from this SGA. Applicants are invited to apply for funding to operate the local NFJP grants for the delivery of workforce investment services and related activities to migrant and seasonal farmworkers; or funding to provide farm worker housing assistance to eligible migrants and seasonal farmworkers; or both. Applications for funding the NFJP grants and the housing grants should be submitted separately, and will be reviewed and paneled by the Department separately.

Part I. National Farmworker Jobs Program

Purpose and Background

The U.S. Department of Labor, Division of Seasonal Farm Worker Programs of the Employment and Training Administration is requesting grant applications for operating the National Farm Worker Jobs Program (NFJP), and/or the farm worker Housing Assistance program, in accordance with Section 167 of the Workforce Investment Act of 1998 (WIA), 29 U.S.C. 9201. WIA calls for a competition for the NFJP program to be conducted every two years, but authorizes the Secretary to waive this requirement for an additional two years if the grantees are performing satisfactorily and upon receipt of an acceptable two-year plan for the succeeding two years.

The current NFJP grants were originally awarded to begin program operation on July 1, 1999, and subsequently extended for an additional two-year cycle in 2001. Therefore, operational authority for the current NFJP grants expires on June 30, 2003, ending the cycle that began on July 1, 2001. Housing Assistance grants were also last competed in 2001, and their operational authority will also expire on June 30, 2003.

The National Farm Worker Jobs Program (NFJP) is authorized by WIA Section 167 to serve economically disadvantaged persons who primarily depend on employment in agricultural labor performed within the United States, including Puerto Rico, who experience chronic unemployment and underemployment. Qualifying participants are typically those persons employed on a seasonal or part-time basis in the unskilled and semi-skilled manual labor occupations in crop and animal production. Through training and other workforce development services, the program assists eligible seasonal farmworkers and their families to prepare for jobs likely to provide stable, year-round employment in agricultural and non-agricultural occupations.

For many years, the NFJP served as the primary vehicle through which migrant and seasonal farmworkers were assisted through job training to achieve employment in higher-skills, better paying jobs, and through supportive services that allowed them to continue their agricultural work while providing for their families. Over the years, this “categorical” targeting resulted in the development of expertise among a small number of organizations that devoted their efforts almost exclusively to serving farmworkers. As the workforce development system continued to evolve toward integrated service delivery rooted in collaboration among workforce development programs, these organizations continued to be considered the primary, and sometimes the only, program operators equipped to serve farmworkers.

The enactment of the Workforce Investment Act (WIA) changed the way services were delivered at the local level, by establishing the One-Stop Career Center system as the cornerstone of the workforce investment system. One-Stop Career Centers are intended to be the “location,” whether physical or electronic, where all persons in the community may access services from a variety of partner programs. Thus, a key feature of the One-Stop system is its universality.

To ensure that the One-Stop system serves everyone in the community, WIA required that specific programs become partners in the system, including the NFJP. The NFJP's participation in the One-Stop system contributes to creating a seamless delivery of services through which collaborating programs provide improved and comprehensive services. One-Stop systems can also ensure a greater use of state and local formula funded grant programs to serve farmworkers through the intensive and training services they need.

This solicitation is intended to increase farmworkers' access to workforce investment services by supporting the continued movement of the One-Stop Career Center system toward universality and integrated service delivery based on initiatives that:

1. Remove barriers and disincentives to serving farmworkers and increase the access migrant and seasonal farmworkers have to services provided through the One-Stop system, including services provided by other One-Stop partner agencies.

2. Develop methods of collaboration, coordination and service delivery enhancement leading to optimal use of NFJP resources within the One-Stop system that promote employment, earnings and training opportunities for farmworkers through the One-Stop system.

3. Increase the opportunities for migrant and seasonal farmworkers to transition into occupations with high employment and wage growth potential both within and outside agricultural industry.

4. Use the expertise of community-based, faith-based and other organizations that specialize in serving farmworkers' workforce development needs to build the capacity of One-Stop systems to be effective in serving farmworkers.

This solicitation establishes the following objectives for the National Farmworker Jobs Program to support these initiatives:

• Development of workforce investment service arrangements that lead to co-enrollment of migrant and seasonal farmworkers in WIA Title I formula funded adult and dislocated worker services, and services provided by other One-Stop partner agencies.

• Development of training strategies leading to the specific skill training activities that enable farmworkers to transition into higher skilled and higher paid employment either in agriculture or outside the industry. These training strategies should also target employment with high growth potential.

• Improvement of English language proficiency of farmworkers who are not bilingual, and achievement of competencies for farmworkers who are basic skills deficient.

• The enabling of farmworkers to become proficient in basic computer skills and using the Internet as a source of information on job and training opportunities.

Legal and Regulatory Requirements: The NFJP program is subject to Section 167 of the Workforce Investment Act and the Department's regulations at 20 CFR part 669. This program is also subject to the requirements of 29 CFR parts 93 (New Restrictions on Lobbying), 96 (Audit Requirements), and 98 (Debarment, Suspension, and Drug-Free Workplace Requirements); as well as the Department's non-discrimination regulations at 29 CFR part 34 and the non-discrimination regulations implementing WIA Section 188 at 29 CFR part 37. Applicants should be familiar with and consult the WIA regulations at 20 CFR parts 660 through 671 in developing their grant proposals. Should the regulations at part 669 of WIA conflict with regulations elsewhere in 20 CFR, the regulations at part 669 will control.

In addition, this program is subject to the provisions of the “Jobs for Veterans Act,” Public Law 107-288, which provides priority of service to veterans and certain of their spouses in all Department of Labor-funded job training programs. Please note that, to obtain priority of service, a veteran must meet that program's eligibility requirements (NFJP, in this instance). Comprehensive policy guidance is being developed and will be issued in the near future.

State Areas and Planning Estimates: State area planning estimates will be announced in a separate Federal Register Notice. The amount available nationally for the NFJP allotments is $72,213,541, and $4,609,840 is available for housing assistance. For purposes of this grant application, proposals are assumed to cover the entire agricultural area of the state unless otherwise stated by the applicant, including supporting rationale. The FY 2003 appropriation for this program provides that no state area shall receive less than 85 percent of its 1998 funding level. Funds will be awarded for one year only, as no budget authority has been requested for this program in FY 2004, and current congressional action affects only FY 2003.

Consultation with Governors and Local Boards: Executive Order No. 12372, “Intergovernmental Review of Federal Programs,” and the implementing regulations at 29 CFR part 17 are applicable to this program. Under these requirements, an applicant must provide a copy of the funding proposal for comment to the states that have established a consultation process under the Executive Order. Applications must be submitted to the state's Single Point of Contact (SPOC), no later than the deadline for submission of the application to the Department. For states that have not established a consultative process under E.O. 12372, but have a State Workforce Investment Board (State Board), the State Board will be the SPOC. For WIA implementation purposes, this consultative process fulfills the requirement of WIA Section 167(e) concerning consultation with Governors and Local Workforce Investment Boards. To strengthen the implementation of E.O. 12372, the Department establishes the following timeframe for its treatment of comments from the state's SPOC on WIA Section 167 applications:

1. The SPOC must submit comments, if any, to the Department and to the applicant, no later than 30 days after the deadline date for the submission of applications;

2. The applicant's response to the SPOC comments, if any, must be submitted to the Department no later than 15 days after the post-marked date of the comments from the SPOC;

3. The Department will notify the SPOC of its decision regarding the SPOC comments and applicant response; and

4. The Department will implement that decision within 10 days after it has notified the SPOC.

Contents of Grant Application

Note: The following requirements apply to applicants for the NFJP portion of the program. Applicants for the housing assistance component of the program are directed to PART II of this SGA. Applicants seeking funding for both the NFJP program and the Housing Assistance program should submit two separate applications, as noted in the SUMMARY section of this SGA.

Applicants need not be a current or prior WIA Section 167 grantee to establish eligibility to be awarded a grant under this solicitation.

To provide training and employment opportunities and other related assistance services to eligible migrant and seasonal farmworkers under WIA Section 167, the Department will select those applicants submitting proposals that are deemed the most responsive to the requirements of this SGA. WIA Section 167 provides that, in order for an applicant to be eligible to receive a grant the grantee must have:

1. An understanding of the problems of eligible migrant and seasonal farmworkers, including their dependents;

2. A familiarity with the geographical area to be served; and

3. A demonstrated capacity to effectively administer a diversified program of workforce investment activities and related assistance for eligible migrant and seasonal farmworkers.

Additionally, to be responsive to the objectives of this SGA, applications for a grant award must demonstrate how:

1. Service delivery arrangements will be put in place that lead to an expanded co-enrollment of migrant and seasonal farmworkers in WIA Title I formula funded adult and dislocated worker services, as well as services provided by other One-Stop partner agencies. Applicants must also demonstrate how they will work with Local Workforce Development Boards in the proposed service area(s) to assure that activities proposed under the Section 167 grant are coordinated with, and build on, the workforce development strategies and services indicated in the local workforce investment plan (see Workforce Investment Act final rules at § 661.345 to § 661.355).

If the applicant is a Local Workforce Investment Board (LWIB), a One-Stop Career Center operator applying on behalf of a LWIB, the application must demonstrate how efforts were undertaken to integrate services provided by all One'Stop partners and to enhance the workforce and related services provided to farmworkers.

2. Training strategies and specific skill opportunities will be provided that enable farmworkers to transition into higher skilled and higher paid jobs with employment growth potential either in agriculture or outside the industry.

3. The English language proficiency of farmworkers who are not bilingual will be improved and how competencies for farmworkers who are basic skill deficient will be improved.

4. Training strategies will be established to enable farmworkers to become proficient in basic computer skills and using the Internet as a source of information on job and training opportunities.

For purposes of this grant application, applications are solicited for a single NFJP operation per state, to serve the migrant and seasonal farmworkers of each state and Puerto Rico, with the following exceptions:

• Connecticut and Rhode Island are a combined state service area;

• Delaware and Maryland are a combined state service area;

• Applications for the combined state areas mentioned above must address the two states as a single geographic area, but the proposed service delivery plan for the combined state area must show that consideration has been given to the entire population of migrant and seasonal farmworkers working or residing within the combined state geographic area;

• Between 4 and 6 applications will be selected to operate the NFJP program in the agricultural counties of California; and

• No application will be accepted to provide services in Alaska due to the State's small relative share of seasonal agricultural employment.

Submission of Proposals

A cover letter, an original plus two (2) copies of the proposal, and one (1) blue ink-signed original SF 424 must be timely submitted to the U.S. Department of Labor, Employment and Training Administration, Division of Financial Assistance, Room S-4203, 200 Constitution Avenue, NW., Washington, DC 20210. This proposal must have two parts: (1) A technical proposal; and (2) a cost proposal.

Hand-delivered applications. To be considered for funding, hand-delivered applications must be received not later than 4:45 p.m., Eastern Time, on the closing date, at the specified address.

Withdrawl of applications. Applications may be withdrawn by written notice or telegram (including mail gram) received at any time before an award is made. Applications may be withdrawn in person by the applicant or by an authorized representative, if the representative's identity is made known and the representative signs a receipt for the application. Failure to adhere to the above instructions will be basis for a determination of non-responsiveness.

Format and Content of Grant Application

An application must consist of two (2) separate and distinct parts: A technical proposal and a cost proposal. The grant application should be limited to 50 numbered pages, double spaced, in 12-point type and typewritten on one side of the paper only. Letters of support and any required attachments will not be subject to the page limitations. Include all attachments under Part III.

Applicant Eligibility for the NFJP Program

A. Understanding the Problems of the Eligible Migrants and Seasonal Farmworkers in the State or Area

Understanding the area's economy and the problems faced by the migrant and seasonal farmworkers working within that economy is essential to formulating a comprehensive service strategy to increase their employment and earnings. In this section, applicants must describe the economy in the geographic area they propose to serve, and how that economy affects the employment conditions of migrant and seasonal farmworkers over the course of the service year.

1. Describe the agricultural economy present in the geographic area to be served. Include information about the general employment conditions, numbers of employers, and any changes in the economic conditions expected during the course of the year that hold implications for how best to meet the employment and training needs of farmworkers. In addition to indicating the number of employers in the geographic area to be served, describe the key growers and agribusiness employers in the area, especially those that are likely to make a significant contribution to employment growth in the higher-wage, higher-skilled agricultural occupations.

2. Describe the agricultural and non-agricultural labor markets in proposed service area(s). Applicants should be specific about the job opportunities that are expected to be available and the applicant's capacity to serve as a broker, both within the business community and the One-Stop system, to improve farmworkers' access to these opportunities. The description should also include a discussion of projected high growth occupations in the proposed service the area that hold the potential for improved employment and earnings for farmworkers.

3. Describe the socio-economic characteristics and problems faced by eligible migrant and seasonal farmworkers, and their dependents, in the proposed service area.

4. Summarize the applicant's understanding of the economy and labor market in the proposed service are and discuss the implications of descriptions provided in sub-sections 1, 2 and 3, above, for the kind of workforce development assistance required to significantly increase the employment and earnings of migrant and seasonal farmworkers in the area.

B. Familiarity With the Proposed Service Area

To achieve high performance in increasing farmworkers' employment and earnings, an NFJP grantee must have the capacity to mobilize a broad array of resources to meet the diverse needs of migrant and seasonal farmworkers in the proposed service area. The task of mobilizing resources must be informed by an understanding of the One-Stop Career Center system in the area(s) and the network of social, educational and health services available to support farmworkers' labor force participation and to assist them in improving their employment and earnings over time.

This section calls for information that demonstrates an understanding of the One-Stop system and the applicant's experience and effectiveness in establishing collaborative working relationships that achieve the integrated service delivery needed to increase employment and training opportunities for farmworkers. This section also calls for information that demonstrates the applicant's experience and effectiveness in collaborating with the network of social, educational and other services that exist in the proposed service area(s) and how the applicant proposes to engage these service networks to obtain appropriate services for migrant and seasonal farmworkers.

1. Describe the applicant's experience, if any, as an operator of a WIA Title I formula-funded program that served farmworkers. Include a description of how the applicant's work with the local One-Stop Career Center system resulted in enhancing the scope of workforce development assistance available to farmworkers. If the applicant is currently, or was previously, designated as the One-Stop Career Center operator, the operator of a “satellite” One-Stop Career Center, by the Local Workforce Investment Board, describe efforts to integrate services provided by all One-Stop partners to enhance workforce and related services to farmworkers. Indicate the success of these efforts.

2. Describe the applicant's experience in engaging One-Stop partners, other than the NFJP partner, in its service delivery strategy for migrant and seasonal farmworkers. The discussion should include a description of the applicant's experience at developing or continuously improving the working relationships between partners to enhance the scope and quality of workforce development services available to farmworkers. Include instances where co-enrollment of eligible migrant and seasonal farmworkers was achieved and how.

3. Describe the network of faith-based and community-based organizations in the service area; describe the applicant's experience in engaging these organizations in its service delivery strategy for migrants and seasonal farmworkers. Include a description of the applicant's experience in working with grassroots faith-based and community-based organizations in providing for supplementary and supportive services.

4. Describe the applicant's experience in representing the NFJP or another One-Stop partner in negotiations of Memoranda of Understanding (MOUs) with local workforce investment boards (local boards). Include specific examples of successfully negotiated arrangements that benefited the partner program represented by the organization, whether NFJP or any other partner. Also discuss how the negotiated terms of the MOU enhanced services for farmworkers and/or other participants. Where the applicant represents a partner program in a state and has been unable to negotiate an MOU with a local board, describe the efforts to develop an action plan with the local board and the results achieved.

5. If the applicant is a Local Workforce Investment Board (LWIB), or a One-Stop Career Center operator applying on behalf of a LWIB, describe efforts to integrate services provided by all One-Stop partners to enhance workforce and related services provided to farmworkers. Indicate the success of these efforts. Additionally, describe the success achieved in enrolling and serving farm workers in WIA formula-funded programs.

6. Describe the network of social, educational, faith-based and other services that exist in the proposed service area. Include a discussion of the applicant's existing (or proposed) working relationships with the One-Stop system and with other agencies, organizations, and institutions that are part of the service network and are relevant to the needs of farmworkers. Provide examples of the other services available, such as adult education, English as a Second Language, etc.

7. Describe the applicant's strategy mobilizing the local services network to provide comprehensive services to farmworkers while achieving optimal use of limited NFJP resources. The description should clearly present how the strategy will engage the local services network, including faith-based and community-based organizations, to provide the supportive services (also called “related assistance services”) farmworkers may need to remain in the labor force or to participate in training. A major objective of the strategy should be to maximize the amount of NFJP funds available for training and other workforce development assistance by identifying other funding sources for supportive services.

C. Administrative Capacity

The information provided in this section should describe the applicant's capacity to effectively administer a diversified program of workforce investment activities. Applicants must describe the mechanisms it plans to use to establish and maintain program and fiscal oversight and integrity.

1. Program Integrity

The applicant should describe its management information and performance management systems and its plans to maintain the program records (including individual participant records) needed for reporting and performance accountability and management, and to establish and to maintain a case management system.

Additionally, the applicant must describe its experience with performance management systems and explain its perspective on the role of performance management and how it should be used to improve customer service.

Case management presumes a client-centered approach to delivering workforce investment activities and support services. For optimum results, case management should be technology-based; i.e., fully utilizing computer technology and other electronic tools. Applicants should describe their experience in using case management systems, including the results achieved from using that approach.

2. Fiscal Integrity

The applicant must describe a record keeping system that is sufficient to prepare financial reports and to trace funds to adequate levels of expenditures to ensure lawful spending. In this connection, applicants must describe their capacity to manage the supportive services, often referred to as “related assistance services” and to account for expenditures related to these services.

“Related assistance services” refers to short-term support services designed to assist farmworkers to retain or stabilize their agricultural employment or to enable their participation in NFJP activities.

Describe the applicant's approach to managing the delivery of related assistance services to farmworkers (except those housing assistance supportive services provided through a housing assistance grant). Include a description of how the need for related assistance services will be determined. The description should discuss whether the criteria used to determine the need for related assistance services differs among migrant and seasonal farmworker groups, what the differences are and the rationale for the differentiation.

Also describe the applicant's strategy for minimizing the use of NFJP funds for related assistance services and significantly increasing funding from other sources that are the traditional resource in rural communities of the state for providing supportive services.

3. Electronic Reporting

The NFJP program is required to use electronic reporting via the Internet. In this section, applicants' should describe the applicant's capacity to provide the equipment, access and staff qualified to perform on-line reporting. In addition, describe the applicant's capacity to provide all case management staff and others, as appropriate, with electronic tools such as PCs, software for word processing and spreadsheets, individual e-mail accounts, and Internet access with an agency provided ISP.

Note: PY 2003 grantees will be required to provide personal computers, individual e-mail accounts and Internet access for all customer service staff. For purposes of this SGA, customer service staff are those personnel who have or make the contacts with farm worker customers to conduct outreach, recruitment, objective assessment, testing, counseling, individual employment planning, job training planning, placement and follow-up.

D. Activities and Services Proposed for the State Service Area

This section calls for information that describes the proposed service approach in detail and elaborates on other aspects of the program design other than those provided in the qualifications statements under Sections A through C.

The proposed service plan should describe in detail the major program activities proposed for the service area for PY 2003 (July 1, 2003-June 30, 2004).

The applicant's proposal should show how the program activities described in this Section are intended to achieve the NFJP's objectives for PY 2003, as defined in this solicitation's Purpose and Background Section:

• Development of workforce investment service arrangements that lead to co-enrollment of migrant and seasonal farmworkers in WIA Title I formula funded adult and dislocated worker services, and services provided by other One-Stop partner agencies.

• Development of the training strategies and provision of the specific skill training that enable farmworkers to transition into higher skilled and higher paid employment, either in agriculture or outside the industry. These training strategies should also target employment with high growth potential.

• Improvement of English language proficiency of farmworkers who are not bilingual, and achievement of competencies for farmworkers who are basic skills deficient.

• Enabling farmworkers to become proficient in basic computer skills and using the Internet as a source of information on job and training opportunities.

The applicant's proposal should include the following information and descriptions and discuss how the plan of service achieves the above objectives:

Service strategy: Provide a brief statement of vision, strategy, goals and objectives that guide the proposed plan of services for farmworkers and the results expected to be achieved from implementing the strategy. Also, identify opportunities to strengthen the service strategy through new partnerships (e.g., with faith-based and community-based organizations). The strategy and the service plan should strengthen migrant and seasonal farmworkers' ability to obtain or retain employment through activities that stabilize their agricultural employment, prepare them for higher-skill, higher-paid jobs within or outside of agriculture, or prepare them for success as entrepreneurs. The service strategy must describe how it reflects the result of collaboration with Local Workforce Investment Boards and complements the workforce development strategies and services presented in the local workforce investment plan. Discuss how the services strategy expands workforce and related services available to farm workers due to closer coordination between the Section 167 service strategy and plan and the local workforce investment plan.

If the applicant is a Local Workforce Investment Board (LWIB), a One-Stop Career Center operator applying on behalf of a LWIB, the application must demonstrate how the service strategy integrates services provided by all One-Stop partners, especially services provided by Section 167 grantees resulting in an enhancement of the workforce and related services provided to farmworkers.

1. State service area: Identify the state service area. If the proposal is for less than the entire agricultural area of the state, identify the geographic areas of the state where the organization proposes to operate. Provide the rationale for supporting the geographic area selected.

2. Program plan of service: Include an estimate of the number of migrant and seasonal farmworkers, respectively, who will be provided training services. Additionally, provide an estimate of the number of migrant and seasonal farmworkers, respectively, who will be provided related assistance services (excluding housing assistance). For the specific activities included in the plan, describe the program of services proposed according to the following categories:

(a) Outreach and recruitment: Describe strategies for conducting outreach and recruitment for eligible migrant and non-migratory farmworkers, respectively. Include descriptions of the specific types of places, such as through faith-based or community-based organizations, where outreach and recruitment will occur.

(b) Case Management: Describe the proposed customer-centered case management system. Include specific details, such as information about the staff's responsibilities for managing the case management system, the community resources that are available to staff, and the staffs' capacity for developing those resources through alliances and other joint endeavors, such as participation in the One-Stop system, in order to expand the availability of services for farmworker customers.

(c) Core Services: Describe how the organization expects to provide core services as a One-Stop Career Center, or in partnership with the local One-Stop Center, and the workforce investment delivery system in the service area. Briefly explain the eligibility determination system and how service priorities are determined.

(d) Intensive Services: Describe the intensive services proposed, the strategy for providing those services, and how the One-Stop system will be involved in the provision of services. Intensive services are defined in WIA section 134(d)(3) and 20 CFR 669.370 and include such activities as group and individual counseling, skill assessment, work experience, objective assessment and supportive services.

The description must include the proposed strategy for providing Individual Employment Plans, described at 20 CFR 669.400; case management, and must specifically address how the organization proposes to incorporate case management concepts to provide an individualized operating system for the delivery of client services, as well as how the organization plans to use objective assessments as described at 20 CFR 669.380 (i.e., the delivery of intensive and training services should flow from the objective assessment process).

Additionally, please describe how the organization will build its capacity for responding appropriately to an individual's needs that are identified by the objective assessment. This may include how the program will develop and provide its intensive services, such as the ones identified in WIA 134(d)((3)(C) and 20 CFR 669.370, which specifically includes drop-out prevention, allowance payments and work experience. Descriptions should show that the case management system ensures a client-centered approach, one designed to prepare and coordinate comprehensive employment plans for participants that include access to necessary workforce investment activities and supportive services, using, where feasible, computer-based technologies. (See WIA subsection 101(5).)

If work experience is expected to be offered as an activity, describe how the determination as to its appropriateness will be made, as well as how the organization will measure its effectiveness. Include a description of any controls to be used. It should be noted that work experience activities are WIA Intensive Services; therefore, applicants should provide a complete description and justification for any planned work experience activity that will be unpaid or that will use the for-profit sector to host the work experience participants. (To be allowed, work experience activities incorporating these concepts must be described in the approved grant plan. See 20 CFR 669.370 (b)(i) and (b)(ii)(B))

Include descriptions of any additional intensive services to be provided that have not been already described, such as provision of allowance payments.

(e) Training Services: Describe the training strategies to be used to significantly increase employment and earnings of farmworkers. Indicate how these training strategies will:

• Transition farmworkers into higher-skilled and higher-paid employment either in agriculture or outside the industry;

• Create cross training opportunities and assist farmworkers to qualify for cross training employment opportunities;

• Create entrepreneurial training and micro-enterprise development opportunities for farmworkers;

• Target appropriate individuals and provide training to improve the English language proficiency of farmworkers who are not bilingual, and achieve competency for farmworkers who are basic skills deficient; and

• Enable farmworkers to become proficient in basic computer skills and using the Internet as a source of information on job and training opportunities.

(f) Performance results: Describe how the organization will provide for job placement and other positive outcomes for participants. The description should address how job placement opportunities will be pursued among key growers and agribusiness employers likely to contribute to employment growth in the higher-wage, higher-skilled agricultural occupations. Similarly, the description should address how high-growth, high-wage, and high-skills job placement opportunities will be secured for farmworkers from those employers outside agriculture.

(g) Follow-up Services: Describe how the organization will conduct follow up for those who are placed in jobs and who are engaged in entrepreneurial activities.

(h) Related Assistance Services: Describe the supportive services needed by migrant and seasonal farmworkers and their dependents to assist them in retaining employment, engaging in cross training, training for other, non-agricultural occupations, or engaging in entrepreneurial training.

Describe the strategy for providing related assistance services under the NFJP. Provide separate descriptions for those farmworkers for whom only related assistance services will be provided. Describe the kinds of services anticipated and the limitations to be imposed, such as a unit cost limitation.

Discuss how supportive services available through the NFJP will be linked with the supportive services available to farmworkers through One-Stop partner programs, or other agencies providing needed supportive services.

Discuss how faith-based and community-based organizations will be used, where applicable, in providing related assistance services.

(i) Administrative Costs: Grantees are generally limited to 15 percent of the grant for administrative costs (see definition at 20 CFR Part 667). If the organization expects that the administrative cost burden will exceed 15 percent, provide the justification in this section.

Rating Criteria for Award

A DOL review panel will use the point scoring system and the Rating Criteria format specified below to review applications. Applications will be ranked based on the score assigned by the panel after careful evaluation by each panel member. It is required that all applicants use the Rating Criteria format when developing their applications in response to this SGA.

Scoring: The following full review criteria (totaling a maximum score of 100 points) apply to all applicants.

(1) Understanding the Problems of Migrants and Seasonal Farmworkers (20 points)

The application must demonstrate an in-depth understanding of the dynamics of the agricultural economy in the geographic area to be served, the socio-economic characteristics of eligible migrant and seasonal farmworkers and their families in the service area, and the implications of the foregoing for the kind of workforce development assistance strategies required to increase the employment and earnings of eligible workers in the proposed area of service.

Scoring on this factor will be based on how well the applicant links its understanding of the agricultural economy and the characteristics of the eligible population in the geographic area to be served to the workforce development assistance needed to achieve significant employment and earnings increases. The evaluation of the application's response to this factor will also look for evidence of insight into the opportunities that the local economy presents to move farmworkers into higher-paid, higher-skilled employment both within and outside the agricultural industry.

(2) Familiarity With Proposed Service Area (20 points)

The applicant must demonstrate its familiarity with the network of workforce development and related services, including, where applicable, services provided by faith-based and community-based organizations, available to assist farmworkers to increase their employment and earnings, and the applicant's experience and success with causing these networks to direct their resources to address farmworkers' employment, earnings and supportive services needs.

Scoring on this factor will be based on the comprehensiveness of the applicant's knowledge of the One-Stop Career Center system in the proposed area(s) of service and the related services offered by social, educational, faith-based and community-based organizations, and health services whose services support farmworkers' labor force participation and assist them to improve their employment and earnings over time. The evaluation of the applicant's response to this factor will also look for evidence that the applicant has had experience in working within the One-Stop Career Center system as a partner or service provider and will be effective in mobilizing both the One-Stop system and other service systems in a way that maximizes the amount of NFJP funds that are available to fill training gaps in the local One-Stop system with respect to farmworkers and maximizes the funding available from non-NFJP sources for supportive services.

If the applicant is a Local Workforce Investment Board (LWIB), or a One-Stop Career Center operator applying on behalf of a LWIB, scoring will be based on the success of efforts to integrate services provided by all One-Stop partners, including Section 167 grantees, to enhance the workforce and related services provided to farmworkers. Special emphasis will be placed on the success achieved in enrolling and serving farm workers in WIA formula-funded programs.

(3) Administrative Capacity (20 points)

The applicant must demonstrate that it has or will have adequate management information, performance management, case management, accounting and program and fiscal reporting systems in place to assure the program and fiscal integrity of the services financed with funds awarded through this solicitation.

Scoring on this factor will be based on evidence that the applicant has the capacity to effectively administer a diversified program of workforce investment assistance using appropriate administrative systems to maintain program and fiscal oversight and monitoring. The evaluation of the application's response to this factor will look for evidence of effective accounting performance management, and program and fiscal reporting systems as well as the applicant's ability to report electronically through the Internet.

(4) Proposed Plan of Service (40 points)

The applicant must demonstrate that its proposed plan service will meet the objectives of this solicitation. The objectives in question seek to increase farmworkers' co-enrollment in WIA Title I formula funded adult and displaced worker services; transition farmworkers into higher-skilled, higher-paid jobs in or outside agriculture; improve the English language proficiency of farmworkers who are not bilingual; and enable farm workers to become proficient in computer skills and Internet use.

Scoring on this factor will be based on evidence that the applicant has used (1) its understanding of the problems of eligible migrant and seasonal farmworkers, (2) its knowledge of the agricultural economy (including placement opportunities among key growers, agribusiness, and non-agricultural employers), and (3) its familiarity with the proposed service area (including the network of social, educational, faith-based and community-based organizations) to develop a service strategy and plan of service that will be successful in meeting the objectives of this solicitation and holds the potential to have a measurable impact on improving the employment and earnings of farmworkers. Additionally, the evaluation of the applicant's response to this factor will look for (4) evidence of comprehensiveness and the potential effectiveness of the proposed service strategy and plan of service within the context of the background the proposal provides of the workforce development needs of farmworkers in the proposed service area and the opportunities to address those needs. If the applicant is a LWIB or a One-Stop Career Center operator applying on behalf of a LWIB, the evaluation (5) will assess whether significant success has been achieved in integrating services provided by all One-Stop partners, especially services provided by Section 167 grantees, to enhance of the workforce and related services farmworkers receive. Special emphasis will be placed on the success achieved in enrolling and serving farm workers in WIA formula-funded programs. Finally, if the applicant is not a LWIB or One-Stop operator applying on behalf of an LWIB, the evaluation of this factor will (6) assess whether the Section 167 service strategy and service plan reflect a knowledge of the local workforce investment plan and proposes services that complement that plan in a way that expands workforce services available to farm workers.

Review Process for Grant Applications

Panel Review: The Grant Officer will select potential grantees utilizing all information available to him/her. A review panel will rate each proposal according to the criteria specified in the SGA. Panel results are critical to selecting grantees but are advisory in nature and not binding on the Grant Officer. The Grant Officer may, at his/her discretion, request an applicant to submit additional or clarifying information if needed to make a selection. However, selections may be made without further contact with the applicants. In such situations, an award will be based on the offeror's signature on the SF 424, which constitutes a binding offer.

Responsibility Review: Prior to awarding a grant, the Department will conduct a responsibility review of each potential grantee through available records. The responsibility review relies on testing available records to determine if the applicant has a satisfactory history of accounting for Federal funds and property. The responsibility review is independent of the competitive process. Applicants failing to meet the requirements of this section may be disqualified for selection as grantees, irrespective of their standing in the competition. Any applicant that is not selected as a result of a Grant Officer's responsibility review will be advised of its appeal rights. The responsibility tests that will be applied are those present in the WIA regulations (20 CFR 667.170).

Areas not Competed: In the event that no grant applications are received for a state, or all applications received are deemed non-responsive, or a grant agreement is not successfully negotiated with a selected applicant, the Department will offer the Governor of the State a right of first refusal to submit an acceptable application if that state has not applied. If the Governor does not accept this offer within 15 days after being notified, the Department may designate another organization, reopen the area for competitive bidding, allocate the area funds by formula to all other service areas, or transfer the funds for that service area to national account activities.

Notification of Non-Selection: Any applicant that is not selected as a potential grantee or whose application has been denied in part or in whole by the Department will be notified in writing by the Grant Officer and advised of all appeal rights.

Notification of Selection: Applicants submitting applications in response to this SGA that are selected as potential grantees will be notified in writing by the Grant Officer. The notification will invite each potential grantee to negotiate the final terms and conditions of the grant as applicable, will establish a reasonable time and place for the negotiations, and will indicate the specific service delivery area and amount of funds to be allocated under the grant. FY 2003 funds will be awarded for the period July 1, 2003 to June 30, 2004. Grant plans will be approved for that one year only.

Part II. Housing Assistance

In the FY 2003 Appropriations bill Congress made available $4,609,840 for housing assistance services to eligible migrants and seasonal farmworkers. As noted in the Purpose and Background section of this SGA, applicants for Housing Assistance grants that are also applying for the NFJP grants must submit a separate application for the Housing Assistance grants. The Department will fund proposals according to the Rating Criteria listed at the end of this Part, up to the level of funding available.

The Department is committed to greater accountability in the utilization of Housing Assistance grants to ensure that housing supportive services are provided, as a first priority, to eligible migrant and seasonal farmworkers who have the greatest need for housing assistance. The Department intends to achieve greater accountability for addressing this priority through the following requirements:

• Housing assistance may only be provided to Section 167 eligible migrant and seasonal farmworkers;

• Housing assistance will be permitted for direct support payments for emergency and temporary housing and for direct investments in housing assistance for migrant and seasonal farmworkers at their home base. Indirect services, such as leveraging services to increase or maintain the housing stock available to farmworkers, are also authorized. However, these indirect services must focus exclusively on increasing (or maintaining) the stock of emergency and temporary housing, including portable housing units.

• Housing assistance must be related to the promotion of a farmworker's employment through a documented strategy that supports that farmworker's housing needs while they are employed in agricultural labor or while they are receiving intensive and/or training services. This strategy may be identified through an Individual Employment Plan (IEP).

The Department seeks to promote the use of temporary and portable housing designs that meet safety and health standards for use by migrant and seasonal farmworkers that have been unable to find safe, affordable housing during their migrations. Proposals that include such strategies should provide for the utilization of Energy Star-rated designs whenever possible. Please note that, as before, grant funds may not be used for facilities construction.

Contents of Grant Application

A. Understanding the Problems of the Eligible Migrant and Seasonal Farmworkers of the State or Area

An understanding of the area's economy, the housing market in the area and the problems faced by migrant and seasonal farmworkers working within that economy, is essential to formulating an effective strategy to provide housing assistance to migrant and seasonal farmworkers.

1. Describe the housing market in the area including the role that employer-provided housing and publicly subsidized housing plays in defining the stock of standard housing available to farmworkers and discuss the problems Section 167 eligible farmworkers encounter when seeking temporary and emergency housing in the state. Discuss how these problems affect their ability to obtain and retain employment, or to participate in job search and or training activities to improve their employment and earnings whether in or outside agriculture.

2. Describe the strategy for identifying, and conducting outreach to, eligible migrant farmworkers who have critical housing needs.

B. Familiarity With the Area To Be Served

In order to provide housing services that are appropriate for the migrant and seasonal farmworkers the program serves, the applicant must be familiar with the housing conditions in the proposed service area and the housing assistance available from other agencies that provide relevant assistance—for example, the One-Stop Career Center system, and the wider community of social service agencies, including faith-based and community-based agencies. The application should:

1. Provide an analysis of the housing assistance resources available from employers and state and local agencies to respond to the temporary and year-round housing needs of migrant and seasonal farmworkers in the state. Include housing assistance available through faith-based and community-based organizations. Discuss the applicant's experience and effectiveness in engaging the resources of these agencies to meet farmworkers' temporary and emergency housing needs.

2. Describe the types of housing assistance activities appropriate for addressing the needs of the eligible migrant and seasonal farmworkers in the area. Provide a housing assistance strategy for those farmworkers that require assistance in order to remain in agricultural labor, as well as for those who require temporary or emergency housing to obtain and retain employment, or to participate in job search and or job training activities to improve their employment and earnings, whether in or outside agriculture.

C. Administrative Capacity

The information provided in this section should describe the applicant's capacity to effectively administer a program of temporary and emergency housing assistance. Applicants must describe the mechanisms it plans to use to establish and maintain program and fiscal oversight and integrity.

1. Program Integrity

The applicant should describe its management information and performance management systems and its plans to maintain the program records (including individual participant records) needed for reporting and performance accountability and management, and to establish and to maintain a case management system.

Additionally, the applicant must describe its experience with performance management systems and explain its perspective on the role of performance management and how it should be used to improve customer service.

Case management presumes a client-centered approach to housing assistance as a support service. For optimum results, case management should be technology-based; i.e., fully utilizing computer technology and other electronic tools. Applicants should describe their experience in using case management systems, including the results achieved from using the approach.

2. Fiscal Integrity

The applicant must describe a record keeping system that is sufficient to prepare financial reports and to trace funds to adequate levels of expenditures to ensure lawful spending.

Applicants must describe their capacity to manage housing assistance services, including a description of how eligibility to receive related assistance services will be determined. The description should discuss whether the criteria used to determine eligibility for housing assistance services differs among migrant and seasonal farmworker groups, what the differences are and the rationale for the differentiation.

Also describe the applicant's strategy for minimizing the use of WIA Section 167 funds for temporary and emergency assistance services and significantly increasing funding from other sources that provide housing assistance in rural communities.

3. Electronic Reporting

The WIA Section 167 housing assistance program is required to use electronic reporting via the Internet. Describe the applicant's capacity to provide the equipment, access and staff qualified to perform on-line reporting. Describe the applicant's capacity to provide all case management staff and others, as appropriate, with electronic tools such as PCs, software for word processing and spreadsheets, individual e-mail accounts, and Internet access with an agency provided ISP.

Note: PY 2003 grantees will be required to provide personal computers, individual e-mail accounts and Internet access for all customer service staff.

D. Proposed Activities and Services

This section will elaborate on the description of an applicant's proposed service approach by describing the specific activities in the proposed service plan not already covered in the previous sections. Applicants should:

1. Describe the plan for identifying those farmworkers in need of housing assistance, including the process for eligibility determination and the coordination with the NFJP grantee in the state (to ensure that the housing assistance made available to individual migrant and seasonal farmworkers is supported by an individual plan or workforce investment activities).

2. Describe, if not done elsewhere, the case management approach to be used for housing assistance, and how the organization will manage the delivery of housing assistance services.

3. Describe in detail the specific housing assistance services to be offered, including an estimate of the number of migrant and seasonal farmworkers, respectively, that will be provided housing assistance. Provide separate information for temporary housing and for emergency housing.

4. Describe how eligible farmworkers' housing assistance will be coordinated with training and related assistance services provided through the NFJP partner if the applicant did not apply for or is not awarded an NFJP grant.

Format and Content of Application

The grant application is limited to 15 pages, double-spaced, in 12 point type. Letters of support and any required attachments are additional pages. Do not include detailed budgets or planning estimates with this grant application. Planning and budget documents will be requested from selected applicants.

Rating Criteria for Award

A DOL review panel will use the point scoring system and the Rating Criteria format specified below to review applications. Applications will be ranked based on the score assigned by the panel after careful evaluation by each panel member. It is required that all applicants use the Rating Criteria format when developing their applications in response to this SGA.

Scoring: The following full review criteria totaling a maximum score of 100 points apply to all applicants.

(1) Eligibility and Understanding (20 points)

The application must demonstrate an in-depth understanding of the area's economy, the housing market in the area, and the problems faced by migrants and seasonal farmworkers in obtaining housing in the area where they live and work.

Scoring on this factor will be based on how well the applicant describes the housing market in the area, including the role that employer-provided housing and publicly-subsidized housing, and where, applicable, housing provided through faith-based and community-based organizations, play in defining the standard housing stock available to migrants and seasonal farmworkers. The applicant must also demonstrate knowledge of how housing availability impacts the farmworkers' ability to obtain and retain employment, or participate in job search and job training activities.

(2) Familiarity With Proposed Service Area ( 20 points)

The applicant must be able to demonstrate an in-depth knowledge of the housing conditions in the service area, the relevant social services agencies that provide housing assistance in the service area (including those in the One-Stop system, as well as faith-based and community-based organizations), and the resources available to those agencies, in order to maximize housing opportunities for migrants and seasonal farmworkers, both temporary and permanent.

Scoring on this factor will be based on the comprehensiveness of the analysis presented regarding the housing market in the area, the resources available from all other sources in the community, both public and private, and the impact on solutions to the temporary and/or permanent housing needs of migrants and seasonal farmworkers who are trying to get a job, keep a job, or participate in job search and job training activities.

(3) Administrative Capacity (20 points)

The applicant must demonstrate that it has or will have adequate management, fiscal and program integrity mechanisms plans to effectively administer a temporary and emergency housing assistance program.

Scoring on this factor will be based on evidence that the applicant has the capacity to effectively administer a housing assistance program, using the appropriate administrative systems to maintain program and fiscal oversight and monitoring. The evaluation of the applicant's response to this factor will look for evidence of effective management, program and fiscal accounting and reporting systems.

(4) Proposed Activities and Services (40 points)

The applicant must demonstrate that its proposed services plan will meet the objectives of this solicitation. The objectives in question seek to link services provided through the housing assistance strategy to those services provided to eligible migrants and seasonal farmworkers participating in an NFJP program (or other formula-funded programs of the state), to enable eligible migrants and seasonal farmworkers to obtain and retain employment, or participate in job search and job training activities.

Scoring on this factor will be based on evidence that the applicant has used its understanding of the housing problems of eligible migrant and seasonal farmworkers, its knowledge of the housing market in the proposed service area, and its knowledge of the housing resources available in the service area to develop a plan of service that successfully meets the objectives of this solicitation.

Review Process for Grant Applications

Panel Review: The Grant Officer will select potential grantees utilizing all information available to him/her. A review panel will rate each proposal according to the criteria specified in the SGA. Panel results are critical to selecting grantees but are advisory in nature and not binding on the Grant Officer. The Grant Officer may, at his/her discretion, request an applicant to submit additional or clarifying information if needed to make a selection. However, selections may be made without further contact with the applicants. In such situations, an award will be based on the offeror's signature on the SF 424, which constitutes a binding offer.

Responsibility Review: Prior to awarding a grant, the Department will conduct a responsibility review of each potential grantee through available records. The responsibility review relies on testing available records to determine if the applicant has a satisfactory history of accounting for Federal funds and property. The responsibility review is independent of the competitive process. Applicants failing to meet the requirements of this section may be disqualified for selection as grantees, irrespective of their standing in the competition. Any applicant that is not selected as a result of a Grant Officer's responsibility review will be advised of its appeal rights. The responsibility tests that will be applied are those present in the WIA regulations at 20 CFR 667.170.

Areas Not Competed: In the event that no grant applications are received for a specific service delivery area, or all applications received are deemed non-responsive, or a grant agreement is not successfully negotiated with a selected applicant, the Department will offer the Governor of the State a right of first refusal to submit an acceptable application if that state has not applied. If the Governor does not accept this offer within 15 days after being notified, the Department may designate another organization, reopen the service delivery area for competitive bidding, allocate the area funds by formula to all other service areas, or transfer the funds for that service area to national account activities.

Notification of Non Selection: Any applicant that is not selected as a potential grantee or whose application has been denied in part or in whole by the Department will be notified in writing by the Grant Officer and advised of all appeal rights.

Notification of Selection: Applicants submitting applications in response to this SGA that are selected as potential grantees will be notified in writing by the Grant Officer. The notification will invite each potential grantee to negotiate the final terms and conditions of the grant as applicable, will establish a reasonable time and place for the negotiations, and will indicate the specific service delivery area and amount of funds to be allocated under the grant. PY 2003 funds will be awarded for the period July 1, 2003 to June 30, 2004. Grant plans will be approved for that one year only.

Signed at Washington, DC, this 14th day of April, 2003.
Lorraine H. Saunders,
Grant Officer, Employment and Training Administration.

BILLING CODE 4510-30-P

[FR Doc. 03-9519 Filed 4-16-03; 8:45 am]

BILLING CODE 4510-30-S